DEPARTMENT OF THE INTERIOR

Bureau of Land Management

[LLCAD-0800-1430-ER; CACA 54713]

Notice of Realty Action; Recreation and Public Purposes Act Classification; Inyo County, CA

AGENCY: Bureau of Land Management, Interior.

ACTION: Notice of realty action.

SUMMARY: The Bureau of Land Management (BLM) has examined and found suitable for classification for lease and conveyance under the Recreation and Public Purposes (R&PP) Act, as amended, 61.81 acres of public land in Inyo County, California. The public land contains a solid waste landfill that has been closed to public use. The County of Inyo proposes to use the land to implement a long-term monitoring and closure plan for the landfill.

DATES: Comments of interested persons must be received in the BLM Barstow Field Office at the address below on or before March 10, 2014. Only written comments will be accepted.

ADDRESSES: Bureau of Land Management, Barstow Field Office, 2601 Barstow Road, Barstow, CA 92311.

FOR FURTHER INFORMATION CONTACT: Birgit Hoover, Realty Specialist, BLM Barstow Field Office, 760-252-6035. Detailed information concerning this action including, but not limited to, documentation related to compliance with applicable environmental and cultural resource laws, is available for review at the BLM Barstow Field Office at the address above.

SUPPLEMENTARY INFORMATION: The following described public land in Inyo County, California has been examined and found suitable for classification for lease and conveyance under Section 7 of the Taylor Grazing Act, 43 U.S.C. 315f, and the provisions of the R&PP Act as amended, 43 U.S.C. 869 et seq.:

San Bernardino Meridian

T. 20 N., R. 7 E.,

Sec. 12, Lot 3;

The area described contains 61.81 acres in Inyo County.

The land is not needed for any Federal purpose. The County of Inyo previously leased a portion of the land described above for landfill purposes beginning in 1972. The County of Inyo has applied to purchase the land described to implement a long term closure and monitoring plan for the landfill. The land described above includes the landfill footprint and additional adjacent public land not within the original lease area, but now considered necessary for access, monitoring wells and slope stabilization. The conveyance is consistent with current BLM land use planning and would be in the public interest. The patent, if issued, would be subject to the provisions of the R&PP Act and applicable regulations of the Secretary of the Interior, in particular, but not limited to 43 CFR 2743.3-1, and would contain the following additional reservations, terms, and conditions:

1. A right-of-way thereon for ditches or canals constructed by the authority of the United States pursuant to the Act of August 30, 1890, 43 U.S.C. 945.

2. All minerals shall be reserved to the United States, together with the right to prospect for, mine, and remove the minerals under applicable laws and such regulations as the Secretary of the Interior may prescribe, including all necessary access and exit rights.

3. The patent, if issued, will be subject to all valid existing rights.

4. The patentee shall comply with all Federal and State laws applicable to the disposal, placement, or release of hazardous substances and shall indemnify and hold harmless the United States against any legal liability or future costs that may arise out of any violation of such laws.

5. Except as provided in provision 7 below, the land conveyed shall revert to the United States unless substantially used in accordance with an approved plan and schedule of development on or before the date 5 years after the date of conveyance.

6. If, at any time, the patentee transfers to another party ownership of any portion of the land not used for the purpose(s) specified in the application and the approved plan of development, the patentee shall pay the BLM the fair market value, as determined by the authorized officer, of the transferred portion as of the date of transfer, including the value of any improvements thereon.

7. No portion of the land used for solid waste disposal or for any other purpose that may have resulted in the disposal, placement, or release of any hazardous substance shall under any circumstance revert to the United States.

8. Portions of the above described land have been used for solid waste disposal. Records regarding the solid waste disposal on the land are maintained by the County. Solid waste commonly includes small quantities of commercial hazardous waste and household hazardous waste as determined in the Resource Conservation and Recovery Act of 1976, as amended (42 U.S.C. 6901), and defined in 40 CFR 261.4 and 261.5. Although there is no indication that these materials pose any significant risk to human health or the environment, future land uses should be limited to those which do not penetrate the liner or final cover of the landfill unless excavation is conducted subject to applicable State and Federal requirements.

On March 24, 2014, the public land described above will be segregated from all forms of appropriation under the public land laws, including the general mining laws, except for lease or conveyance under the R&PP Act.

Classification Comments: Interested parties may submit comments involving the suitability of the land for a closed solid waste facility. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a solid waste facility. Any adverse comments will be reviewed by the BLM California State Director who may sustain, vacate, or modify this realty action. In the absence of any adverse comments, the classification of the land described in this notice will become effective on March 24, 2014. The land will not be available for conveyance until after the classification becomes effective.

Before including your address, phone number, email address, or other personal identifying information in your comment, you should be aware that your entire comment—including your personal identifying information—may be made publicly available at any time. While you can ask us in your comment to withhold your personal identifying information from public review, we cannot guarantee that we will be able to do so.

Authority: 43 CFR 2741.5.

Cynthia Staszak,
Associate Deputy State Director, Natural Resources.

[FR Doc. 2014-01275 Filed 1-22-14; 8:45 am]

BILLING CODE 4310-40-P